DEPARTMENT OF HEALTH AND HUMAN SERVICES

Administration for Children and Families

Submission for OMB Review; Comment Request

Title: Multi-Site Evaluation of Project LAUNCH

OMB No.: 0970-0373.

Description: The Administration for Children and Families (ACF), U.S. Department of Health and Human Services, is planning to collect data for the multi-site evaluation (MSE) of Project LAUNCH (Linking Actions for Unmet Needs in Children's Health). Project LAUNCH is intended to promote healthy development and wellness in children from birth to eight years of age. Project LAUNCH grantees are funded by the Substance Abuse and Mental Health Services Administration (SAMHSA) to improve coordination among child-serving systems, enhance systems coordination, integrate child behavioral health services with other health services, and implement evidence-based programs to address children's healthy development.

The Project LAUNCH MSE seeks to determine the impact of the combined LAUNCH services and strategies on child, family, and systems level outcomes. Data for the MSE will be collected through several mechanisms. First, all LAUNCH grantees will submit semi-annual reports through a web-based data entry system. Second, Project LAUNCH grantees will be systematically sampled to include 10 LAUNCH non-tribal sites and 10 matched comparison communities will be recruited to participate in data collection efforts. Within each site, 2 elementary schools and 4 early childhood education (ECE) centers will be selected as data collection sites. Data collected from this sample of LAUNCH and comparison communities will include:

• Surveys of parents of a sample of young children (birth through age eight). Topics include child health, social emotional health, school readiness, parent-child relationships, parent depression, home environment, and parental social support.

• Surveys of a sample of kindergarten teachers. The survey will assess kindergarten students' school readiness in the areas of physical health and wellbeing; social competence; emotional maturity; language and cognitive development; and communication skills.

• Surveys of elementary school and ECE administrators. The survey will assess child suspension and expulsion. In addition, key informant interviews will be conducted with local and state early childhood leaders to gather contextual information about systems level activities and change.

Respondents: All Project LAUNCH grantees for the web-based data collection; a systematic sample of parents, teachers, elementary school and ECE administrators in both LAUNCH and comparison communities; and key informants at the local and state levels in both LAUNCH and comparison communities.

Annual Burden Estimates
[3 Year information collection request]
Instrument | Number of respondents | Annual number of responses per respondent | Average burden hours per response | Total burden hours | Annual burden hours
Direct Services Survey | 31 | 2 | 8.5 | 1,317.5 | 439
Systems Activities and Outcomes Survey | 31 | 1 | 8 | 744 | 248
Recruitment of School Districts, Schools, ECEs, and Participants | 340 | 1 | 1.912 | 433 | 433
Parent Survey | 1800 | 1 | 0.5 | 600 | 600
Teacher Survey (EDI) | 160 | 1 | 10 | 533 | 533
Collection of Student Demographics for Teacher Survey | 20 | 1 | 2 | 13 | 13
School Survey | 120 | 1 | 1 | 80 | 80
Key Informant Interviews on Systems Change | 70 | 1 | 1 | 47 | 47
Note, since original Federal Register Notice announcing this study (80 FR 15016), an additional instrument was added: Collection of Student Demographics for Teacher Survey. This was based on feedback related to the Teacher Survey. We also added burden time for recruitment efforts.

Estimated Total Annual Burden Hours: 2,393.

ADDITIONAL INFORMATION: Copies of the proposed collection may be obtained by writing to the Administration for Children and Families, Office of Planning, Research and Evaluation, 330 C Street SW., Washington, DC 20201, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
ACF Certifying Officer.

[FR Doc. 2016-05861 Filed 3-15-16; 8:45 am]

BILLING CODE 4184-22-P